DEPARTMENT OF HEALTH AND HUMAN SERVICES

Health Resources and Services Administration

Recruitment of Sites for Assignment of National Health Service Corps (NHSC) Personnel Obligated Under the NHSC Scholarship Program

AGENCY: Health Resources and Services Administration, HHS.

ACTION: General notice.

SUMMARY: The Health Resources and Services Administration (HRSA) announces that the listing of entities, and their Health Professional Shortage Area (HPSA) scores, that will receive priority for the assignment of National Health Service Corps (NHSC) scholarship recipients (NHSC Personnel, NHSC members) during the period July 1, 2010, through June 30, 2011, is posted on the NHSC Web site at http://nhscjobs.hrsa.gov/. This list specifies which entities are eligible to receive assignment of NHSC members who are participating in the NHSC Scholarship Program. Please note that not all vacancies associated with sites on the list described below will be for NHSC members, but could be for NHSC Scholarship Program participants serving their obligation through the Private Practice Option.

Eligible HPSAs and Entities

To be eligible to receive assignment of NHSC personnel, entities must: (1) Have a current HPSA designation by the Office of Shortage Designation, Bureau of Health Professions, HRSA; (2) not deny requested health care services, or discriminate in the provision of services to an individual because the individual is unable to pay for the services or because payment for the services would be made under Medicare, Medicaid, or the Children's Health Insurance Program (CHIP); (3) enter into an agreement with the State agency that administers Medicaid and CHIP, accept assignment under Medicare, see all patients regardless of their ability to pay, and use and post a discounted fee plan; and (4) be determined by the Secretary to have: (a) a need and demand for health manpower in the area; (b) appropriately and efficiently used NHSC members assigned to the entity in the past; (c) general community support for the assignment of NHSC members; (d) made unsuccessful efforts to recruit; (e) a reasonable prospect for sound fiscal management by the entity with respect to NHSC members assigned there; and (f) demonstrated a willingness to support and facilitate mentorship, professional development, and training opportunities for NHSC members. Priority in approving applications for assignment of NHSC members goes to sites that: (1) Provide primary medical care, mental health, and/or oral health services to a primary medical care, mental health, or dental HPSA of greatest shortage, respectively; (2) are part of a system of care that provides a continuum of services, including comprehensive primary health care and appropriate referrals or arrangements for secondary and tertiary care; (3) have a documented record of sound fiscal management; and (4) will experience a negative impact on its capacity to provide primary health services if a NHSC member is not assigned to the entity.

Entities that receive assignment of NHSC personnel must assure that: (1) the position will permit the full scope of practice and that the clinician meets the credentialing requirements of the State and site; and (2) the NHSC member assigned to the entity is engaged in full-time clinical practice at the approved service location. For all health professionals except those noted below, “full-time clinical practice” means a minimum of 40 hours per week with at least 32 hours per week spent providing direct patient care in outpatient ambulatory care setting(s) at the approved practice site(s), during normally scheduled office hours. The remaining 8 hours of the minimum 40 hours per week must be spent providing clinical services for patients in the approved practice site(s), or providing clinical services in alternative settings (e.g., hospitals, nursing homes, shelters) as directed by the approved practice site(s), or performing practice-related administrative duties not to exceed 8 hours per week. For obstetricians/gynecologists, certified nurse midwives (CNMs), family practitioners who practice obstetrics on a regular basis, psychiatrists, pediatric dentists, and providers of geriatric services, at least 21 of the minimum 40 hours per week must be spent providing direct patient care (direct patient counseling for psychiatrists) in the outpatient ambulatory care setting(s) at the approved practice site(s), during normally scheduled office hours. The remaining 19 hours of the minimum 40 hours per week must be spent providing clinical services for patients in the approved practice site(s), or providing clinical services in alternative settings (e.g., hospitals, nursing homes, shelters) as directed by the approved practice site(s), or performing practice-related administrative activities (not to exceed 8 hours per week). For all NHSC Scholars, time spent on-call does not count toward the 40 hours per week. In addition, sites receiving assignment of NHSC personnel are expected to: (1) Report to the NHSC all absences, including those in excess of the authorized number of days (up to 35 work days or 280 hours per service year); (2) report to the NHSC any change in the status of an NHSC clinician at the site; (3) provide the time and leave records, schedules, and any related personnel documents for NHSC assignees (including documentation, if applicable, of the reason(s) for the termination of an NHSC clinician's employment at the site prior to his or her obligated service end date); and (4) submit a Uniform Data System (UDS) report. The UDS system allows the site to assess the age, sex, race/ethnicity of, and provider encounter records for, its user population. The UDS reports are site specific. Providers fulfilling NHSC commitments are assigned to a specific site or, in some cases, more than one site. The scope of activity to be reported in UDS includes all activity at the site(s) to which the NHSC member is assigned.

Evaluation and Selection Process

In order for a site to be eligible for placement of NHSC personnel, it must be approved by the NHSC following the site's submission of a Multi-Year Recruitment and Retention (R&R) Assistance Application. The R&R Application approval is good for a period of 3 years from the date of approval.

In approving applications for the assignment of NHSC members, the Secretary shall give priority to any such application that is made regarding the provision of primary health services to a HPSA with the greatest shortage. For the program year July 1, 2010, through June 30, 2011, HPSAs of greatest shortage for determination of priority for assignment of NHSC scholarship-obligated NHSC personnel will be defined as follows: (1) Primary medical care HPSAs with scores of 17 and above are authorized for the assignment of NHSC scholarship recipients who are primary care physicians, family nurse practitioners (NPs), or CNMs; (2) mental health HPSAs with scores of 17 and above are authorized for the assignment of NHSC scholarship recipients who are psychiatrists; (3) primary medical care HPSAs with scores of 15 and above are authorized for the assignment of NHSC scholarship recipients who are physician assistants (PAs); (4) dental HPSAs with scores of 17 and above are authorized for the assignment of NHSC scholarship recipients who are dentists. The NHSC has determined that a minimum HPSA score of 15 for Physician Assistants, and 17 for all other eligible clinicians will enable it to meet its statutory obligation to identify a number of approved service sites at least equal to, but not greater than, twice the number of NHSC scholars available to serve in the 2010-2011 placement cycle.

The number of new NHSC placements through the Scholarship Program allowed at any one site is limited to the following:

(1) Primary Medical Care

No more than 1 physician (MD or DO); and no more than 1 NP, PA, or CNM.

(2) Dental

No more than 1 dentist.

(3) Mental Health

No more than 1 psychiatrist.

Application Requests, Dates and Address

The list of HPSAs and entities that are eligible to receive priority for the placement of NHSC personnel may be updated periodically. Entities that no longer meet eligibility criteria, including those sites whose NHSC 3-year approval has lapsed or whose HPSA designation has been proposed for withdrawal will be removed from the priority listing. New entities interested in being added to the high priority list must submit a Multi-Year NHSC R&R Assistance Application to: National Health Service Corps, 5600 Fishers Lane, Room 8A-30, Rockville, MD 20857, fax 301-594-9009.

Entities interested in receiving application materials may do so by calling the HRSA call center at 1-800-221-9393. They may also get information and download application materials at: http://nhsc.hrsa.gov/communities/apply.htm.

A listing of HPSAs and their scores is posted at http://hpsafind.hrsa.gov/.

Additional Information

Entities wishing to provide additional data and information in support of their inclusion on the proposed list of HPSAs and entities that would receive priority in assignment of scholarship-obligated NHSC members must do so in writing no later than July 26, 2010. This information should be submitted to: Lori Roche, Acting Director, Division of Site and Clinician Recruitment, Bureau of Clinician Recruitment and Service, 5600 Fishers Lane, Room 8A-55, Rockville, MD 20857 or faxed to: 301-480-4577, attention: Lori Roche. This information will be considered in preparing the final list of HPSAs and entities that are receiving priority for the assignment of scholarship-obligated NHSC personnel.

Paperwork Reduction Act: The R&R Assistance Application has been approved by the Office of Management and Budget under the Paperwork Reduction Act. The OMB clearance number is 0915-0230 and expires September 30, 2011.

The program is not subject to the provisions of Executive Order 12372, Intergovernmental Review of Federal Programs (as implemented through 45 CFR part 100).

Dated: June 21, 2010.
Mary K. Wakefield,
Administrator.

[FR Doc. 2010-15356 Filed 6-23-10; 8:45 am]

BILLING CODE 4165-15-P